DEPARTMENT OF HOMELAND SECURITY

Federal Emergency Management Agency

[Docket ID FEMA-2025-0179]

Notice of Adjustment of Public Assistance Thresholds for Floodplain Management and Wetlands Protection Review Process

AGENCY: Federal Emergency Management Agency, DHS.

ACTION: Notice.

SUMMARY: FEMA gives notice that dollar value thresholds that provide exemption from or abbreviation of the floodplain management and wetlands protection process for certain Public Assistance projects associated with disasters with an incident start date on or after October 1, 2025, will increase.

DATES: These adjustments apply to major disasters with an incident start date on or after October 1, 2025.

FOR FURTHER INFORMATION CONTACT: Portia Ross, Office of Environmental Planning and Historic Preservation, Federal Emergency Management Agency, 500 C Street SW, Washington, DC 20472, (202) 212-5929.

SUPPLEMENTARY INFORMATION: FEMA regulation 44 CFR 9.5 includes three different dollar value thresholds that provide exemption from or abbreviation of the 8-step floodplain management and wetlands protection process (8-step process) for certain FEMA projects funded through the Public Assistance program. The regulations provide that the dollar value amounts “will be adjusted annually to reflect changes in the Consumer Price Index for All Urban Consumers published by the Department of Labor.”

For all disasters with an incident start date on or after October 1, 2025, FEMA gives notice of the following adjustments to these thresholds:

• The threshold at 44 CFR 9.5(c)(9) exempting actions from the 8-step process will be increased to $19,000;

• The thresholds at 44 CFR 9.5(d) identifying actions that only need to apply steps 1, 4, 5, and 8 are increased to $19,000 and $96,000;

• The threshold at 44 CFR 9.5(e)(2)(i) identifying the maximum dollar value for actions that only need to apply steps 1, 2, 4, 5, and 8 is increased to $385,000.

FEMA bases these adjustments on an increase in the Consumer Price Index for All Urban Consumers of 2.7% for the 12-month period that ended in June 2025 and 3% for the 12-month period that ended in June 2024, for a total of 5.78%. This adjustment accounts for two years of inflation because the current values were set based on inflation through June 2023. The Bureau of Labor Statistics of the U.S. Department of Labor released the information on July 15, 2025, and July 11, 2024. Each threshold value is rounded to the nearest $1,000.

Donna Defrancesco,
Assistant Administrator, Office of Environmental Planning and Historic Preservation, Federal Emergency Management Agency.

[FR Doc. 2025-20059 Filed 11-17-25; 8:45 am]

BILLING CODE 9111-66-P